DEPARTMENT OF HOMELAND SECURITY

Federal Emergency Management Agency

[Docket ID: FEMA-2017-0004; OMB No. 1660-0046]

Agency Information Collection Activities: Submission for OMB Review; Comment Request; Emergency Management Institute (EMI) Independent Study Course Enrollment Application and Test Answer Sheet

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before April 26, 2017.

ADDRESSES: Submit written comments on the proposed information collection to the Office of Information and Regulatory Affairs, Office of Management and Budget. Comments should be addressed to the Desk Officer for the Department of Homeland Security, Federal Emergency Management Agency, and sent via electronic mail to oira.submission@omb.eop.gov.

FOR FURTHER INFORMATION CONTACT: Requests for additional information or copies of the information collection should be made to Director, Records Management Division, 500 C Street SW., Washington, DC 20472-3100, or email address FEMA-Information-Collections-Management@fema.dhs.gov.

SUPPLEMENTARY INFORMATION: This information collection previously published in the Federal Register on January 19, 2017, 82 FR 6595, with a 60 day public comment period. FEMA received one public comment suggesting that the response time should be higher than .5 hours. The online course associated with this form uses a multiple choice format and varies in size from 10 to over 50 questions. Due to this difference, the time needed to complete a final exam varies greatly. Based on our most recent data, .5 hours is the mean time for a final exam completion, and FEMA believes that this is an accurate number for calculating the public burden associated with this form. The purpose of this notice is to notify the public that FEMA will submit the information collection abstracted below to the Office of Management and Budget for review and clearance.

Collection of Information

Title: Emergency Management Institute (EMI) Independent Study Course Enrollment Application and Test Answer Sheet.

Type of information collection: Revision of a currently approved information collection.

OMB Number: 1660-0046.

Form Titles and Numbers: FEMA Form 064-0-9, Emergency Management Institute (EMI) Independent Study Course Enrollment Application.

Abstract: The Independent Study program office collects data from FEMA Form 064-0-9 to create and update student records and provide students with credit for training completion. The system also allows FEMA to track completions and failures of course exams. The data on the electronic form will be encrypted and sent to the server to be parsed into the Independent Study database.

Affected Public: Individuals and households, business or other for-profit, not for profit institutions, Farms, Federal government, State, local or Tribal government.

Estimated Number of Respondents: 689,980.

Estimated Total Annual Burden Hours: 1,034,970 hours.

Estimated Cost: The estimated annual cost to respondents for the hour burden is $25,211,869. There are no annual costs to respondents' operations and maintenance costs for technical services. There are no annual start-up or capital costs. The cost to the Federal Government is $260,893.

Dated: March 22, 2017.
Tammi Hines,
Records Management Program Chief (Acting), Mission Support, Federal Emergency Management Agency, Department of Homeland Security.

[FR Doc. 2017-05968 Filed 3-24-17; 8:45 am]

BILLING CODE 9111-72-P